NUCLEAR REGULATORY COMMISSION

[NRC-2013-0001]

Sunshine Act Meetings

AGENCY HOLDING THE MEETINGS: Nuclear Regulatory Commission.

DATES: Weeks of July 22, 29, August 5, 12, 19, 26, 2013.

PLACE: Commissioners' Conference Room, 11555 Rockville Pike, Rockville, Maryland.

STATUS: Public and Closed.

Week of July 22, 2013

There are no meetings scheduled for the week of July 22, 2013.

Week of July 29, 2013—Tentative

There are no meetings scheduled for the week of July 29, 2013.

Week of August 5, 2013—Tentative

There are no meetings scheduled for the week of August 5, 2013.

Week of August 12, 2013—Tentative

There are no meetings scheduled for the week of August 12, 2013.

Week of August 19, 2013—Tentative

There are no meetings scheduled for the week of August 19, 2013.

Week of August 26, 2013—Tentative

Tuesday, August 27, 2013

9:00 a.m. Briefing on NRC's Construction Activities (Public Meeting); (Contact: Michelle Hayes, 301-415-8375).

This meeting will be webcast live at the Web address— http://www.nrc.gov.

3:00 p.m. Briefing on NRC International Activities (Closed—Ex. 1 & 9) (Contact: Karen Henderson, 301-415-0202)

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: July 18, 2013.
Rochelle C. Bavol,
Policy Coordinator, Office of the Secretary.

[FR Doc. 2013-17756 Filed 7-19-13; 4:15 pm]

BILLING CODE 7590-01-P